DEPARTMENT OF THE INTERIOR

National Park Service

[NPS-WASO-NRNHL-DTS#-35933; PPWOCRADI0, PCU00RP14.R50000]

National Register of Historic Places; Notification of Pending Nominations and Related Actions

AGENCY: National Park Service, Interior.

ACTION: Notice.

SUMMARY: The National Park Service is soliciting electronic comments on the significance of properties nominated before May 20, 2023, for listing or related actions in the National Register of Historic Places.

DATES: Comments should be submitted electronically by June 20, 2023.

ADDRESSES: Comments are encouraged to be submitted electronically to National_Register_Submissions@nps.gov with the subject line “Public Comment on <property or proposed district name, (County) State>.” If you have no access to email, you may send them via U.S. Postal Service and all other carriers to the National Register of Historic Places, National Park Service, 1849 C Street NW, MS 7228, Washington, DC 20240.

FOR FURTHER INFORMATION CONTACT: Sherry A. Frear, Chief, National Register of Historic Places/National Historic Landmarks Program, 1849 C Street NW, MS 7228, Washington, DC 20240, sherry_frear@nps.gov, 202-913-3763.

SUPPLEMENTARY INFORMATION: The properties listed in this notice are being considered for listing or related actions in the National Register of Historic Places. Nominations for their consideration were received by the National Park Service before May 20, 2023. Pursuant to section 60.13 of 36 CFR part 60, comments are being accepted concerning the significance of the nominated properties under the National Register criteria for evaluation.

Before including your address, phone number, email address, or other personal identifying information in your comment, you should be aware that your entire comment—including your personal identifying information—may be made publicly available at any time. While you can ask us in your comment to withhold your personal identifying information from public review, we cannot guarantee that we will be able to do so.

Nominations submitted by State or Tribal Historic Preservation Officers

Key: State, County, Property Name, Multiple Name (if applicable), Address/Boundary, City, Vicinity, Reference Number.

DISTRICT OF COLUMBIA

District of Columbia

Washington Navy Yard (Boundary Increase II), 200 Tingey St. SE, Washington, BC100009069

FLORIDA

Duval County

Eastside Historic District (African American Architects in Segregated Jacksonville, 1865-1965 MPS), Roughly bounded by East 7th St., MLK Jr. Pkwy, Arlington Expy, and Cemetery St., Jacksonville, MP100009081

IOWA

Calhoun County

First National Bank of Pomeroy, 101 South Main St. (originally Otsego Street), Pomeroy, SG100009076

Pottawattamie County

Council Bluffs Federal Building and Post Office, 8 South 6th St., Council Bluffs, SG100009075

Winneshiek County

Decorah Hospital, 305 Montgomery St., Decorah, SG100009067

MARYLAND

Baltimore Independent City

Mitchell, Congressman Parren J., House, (Civil Rights in Baltimore, Maryland, 1831-1976 MPS), 1805 Madison Ave., Baltimore, MP100009062

MONTANA

Powell County

Robworth Apartments, 625 Main St., Deer Lodge, SG100009074

NEW YORK

Kings County

Prospect Lefferts Gardens Historic District, Portions of Sterling, Maple, Midwood, and Fenimore Sts., Lefferts, Bedford, Rogers and Nostrand Aves., Lincoln and Rutland Rds., Brooklyn, SG100009073

SOUTH DAKOTA

Minnehaha County

Cathedral Historic District (Boundary Increase), Roughly bounded by West 9th and West 10th Sts., South Prairie, North Trapp, and South Menlo Aves., Sioux Falls, BC100009066

TENNESSEE

Coffee County

Fox House (Tullahoma MPS), 502 Lake Hills Rd., Tullahoma, MP100009078

TEXAS

Dallas County

Deep Ellum Historic District, Roughly bounded by Dallas Area Rapid Transit (DART) alignment and Elm St., South Hall St., North Central Expy., and E.R.L. Thornton Fwy. (I 30), Dallas, SG100009082

VIRGINIA

Fairfax County

Drover's Rest, 8526 Georgetown Pk., McLean, SG100009070

Norfolk Independent City

Downtown Norfolk Financial Historic District, Bounded by East Main, East Plume, Bank, and Atlantic Sts., Commercial Pl., St. Paul's Blvd., Waterside Dr. and the Elizabeth R., Norfolk, SG100009071

Westmoreland County

Montross Historic District, Bounded by VA 3/Kings Hwy., Alma and Ames Lns., Court Sq., Polk St., and Rectory Rd., Montross, SG100009072

WISCONSIN

Grant County

Trinity Episcopal Church, 250 Market St., Platteville, SG100009063

Marinette County

Anaem Omot, Address Restricted, Wausaukee vicinity, SG100009086

A request for removal has been made for the following resources:

PENNSYLVANIA

Philadelphia County

Elk's Lodge BPOE No. 2, 306-320 North Broad St., Philadelphia, OT84003535

TENNESSEE

Grainger County

Lea Springs, 11 mi. southwest of Rutledge off U.S. 11, west on Lea Lake Rd., Rutledge vicinity, OT75001754

Monroe County

Johnson, Elisha, Mansion, Ballplay Rd., Tellico Plains, OT74001923

Authority: Section 60.13 of 36 CFR part 60.

Dated: May 24, 2023.
Sherry A. Frear,
Chief, National Register of Historic Places/National Historic Landmarks Program.

[FR Doc. 2023-11799 Filed 6-1-23; 8:45 am]

BILLING CODE 4312-52-P